DEPARTMENT OF THE TREASURY

Internal Revenue Service

26 CFR Part 1

[TD 9733]

RIN 1545-BJ49

United States Property Held by Controlled Foreign Corporations in Transactions Involving Partnerships; Rents and Royalties Derived in the Active Conduct of a Trade or Business; Correction

AGENCY: Internal Revenue Service (IRS), Treasury.

ACTION: Final and temporary regulations; correction.

SUMMARY: This document contains corrections to final and temporary regulations (TD 9733) that were published in the Federal Register on September 2, 2015 (80 FR 52976). The temporary regulations are regarding the treatment as United States property of property held by a controlled foreign corporation in connection with certain transactions involving partnerships.

DATES: This correction is effective on October 29, 2015 and applicable beginning September 2, 2015.

FOR FURTHER INFORMATION CONTACT: Rose E. Jenkins at (202) 317-6934 (not a toll free number).

SUPPLEMENTARY INFORMATION:

Background

The final and temporary regulations (TD 9733) that are the subject of this correction are under sections 954 and 956 of the Internal Revenue Code.

Need for Correction

As published, the final and temporary regulations (TD 9733) contain errors that may prove to be misleading and are in need of clarification.

Correction of Publication

Accordingly, the final and temporary regulations (TD 9733), that are the subject of FR Doc. 2015-21574, are corrected as follows:

1. On page 52977, in the preamble, the first column, under the paragraph heading “Background”, the second line of the paragraph, the language “to 26 CFR part 1 under of the Internal” is corrected to read “to 26 CFR part 1 under section 956 of the Internal”.

2. On page 52979, in the preamble, the second column, the first line of the column, the language “the active development test in §§ 1.954-” is corrected to read “the active development test in § 1.954-”.

3. On page 52979, in the preamble, the second column, the twentieth line of the column, the language “§§ 1.954-2T(c)(2)(iii)(E), (c)(2)(viii),” is corrected to read “§ 1.954-2T(c)(2)(iii)(E), (c)(2)(viii),”.

4. On page 52979, in the preamble, the second column, the twelfth line from the bottom of the column, the language “that such rents or royalties that are” is corrected to read that such rents or royalties are”.

Martin V. Franks,
Chief, Publications and Regulations Branch, Legal Processing Division, Associate Chief Counsel (Procedure and Administration).

[FR Doc. 2015-27604 Filed 10-28-15; 8:45 am]

BILLING CODE 4830-01-P